DEPARTMENT OF HEALTH AND HUMAN SERVICES

Administration for Community Living

Agency Information Collection Activities; Submission for OMB Review; Public Comment Request; State Developmental Disabilities Council—Annual Program Performance Report (PPR) (OMB Control Number 0985-0033)

AGENCY: Administration for Community Living, Health and Human Services (HHS).

ACTION: Notice.

SUMMARY: The Administration for Community Living is announcing that the proposed collection of information listed above has been submitted to the Office of Management and Budget (OMB) for review and clearance as required under the Paperwork Reduction Act of 1995. This 30-Day notice collects comments on the information collection requirements related to the information collection requirements for the current PPR data collection necessary to determine grantee compliance with Part B of the Developmental Disabilities Assistance and Bill of Rights Act of 2000 (DD Act).

DATES: Submit written comments on the collection of information by August 30, 2021.

ADDRESSES: Submit written comments and recommendations for the proposed information collection within 30 days of publication of this notice to www.reginfo.gov/public/do/PRAMain. Find the information collection by selecting “Currently under 30-day Review—Open for Public Comments” or by using the search function. By mail to the Office of Information and Regulatory Affairs, OMB, New Executive Office Bldg., 725 17th St. NW, Rm. 10235, Washington, DC 20503, Attn: OMB Desk Officer for ACL.

FOR FURTHER INFORMATION CONTACT: Sara Newell-Perez at (202) 795-7413 or Sara.Newell-Perez@acl.hhs.gov.

SUPPLEMENTARY INFORMATION: In compliance with 44 U.S.C. 3507, ACL has submitted the following proposed collection of information to OMB for review and clearance. The Administration for Community Living (ACL) is requesting approval to collect data for the State Councils on Developmental Disabilities (State Councils) Annual Program Performance Report (PPR). On an annual basis, each Council must submit a PPR to describe the extent of annual progress achievement on the 5-year State plan goals. The PPR: (1) The Council as a planning document to track progress made in meeting state plan goals; (2) the citizenry of the State as a mechanism for monitoring progress and activities on the plans of the Council; and (3) the Department as a stewardship tool for ensuring compliance with the Developmental Disabilities Assistance and Bill of Rights Act and for monitoring and providing technical assistance (e.g., during site visits), and support for management decision making.

Comments in Response to the 60-Day Federal Register Notice

A notice published in the Federal Register on April 1, 2021 in 86 FR 17152. There was one public comment received during the 60-day FRN.

Public comment indicated the performance measures are useful in addressing impact and the burden hour for template completion was a reasonable estimate. The respondent did indicate the need to streamline some of the narrative reporting for ease of use. ACL will explore this through additional grantee guidance and development of a web-based reporting platform with user-friendly features, such as data cloning and other such efficient features.

Estimated Program Burden

ACL estimates the burden associated with this collection of information as follows: The total estimated hour burden per respondent for the proposed DD Council PPR is 172 burden hours per response. The number of hours to complete the PPR multiplied by 56 State Council programs, results in a total estimated annual burden of 9,632. The burden is reflective of performance measures introduced in the FFY 2017-2021 state plan cycle. These measures hone in on individual and family advocacy, as well as systems change advocacy. One example of these measures is a reporting of the number of promising and/or best practices improved based on results of systems change activities. The PPR is an opportunity for Councils to report on the actual data and outcomes that resulted from carrying out the new State Plan activities. This extension was previously pilot tested by a Performance Measures Workgroup consisting of nine (9) State Council representatives. This workgroup deemed the PPR necessary to accurately capture and report on the progress of the State Councils. A separate workgroup consisting of nine (9) different State Council representatives further discussed data collection methodologies as it relates to the proposed PPR template. This PPR offers a comprehensive categorization and approach to collecting data necessary to report to Congress and other interested entities.

Respondent/data collection activity | Number of respondents | Responses per respondent | Hours per response | Annual burden hours
State Councils on Developmental Disabilities Annual Program Performance Report (PPR) | 56 | 1 | 172 | 9,632
Total | 56 | 1 | 172 | 9,632

Dated: July 12, 2021.
Alison Barkoff,
Acting Administrator and Assistant Secretary for Aging.

[FR Doc. 2021-15025 Filed 7-14-21; 8:45 am]

BILLING CODE 4154-01-P